DEPARTMENT OF HOMELAND SECURITY

Transportation Security Administration

Intent To Request Extension From OMB of One Current Public Collection of Information: Transportation Security Officer Medical Questionnaire

AGENCY: Transportation Security Administration, DHS.

ACTION: 60-Day notice.

SUMMARY: The Transportation Security Administration (TSA) invites public comment on one currently approved Information Collection Request (ICR), Office of Management and Budget (OMB) control number 1652-0032, abstracted below, that we will submit to OMB for an extension in compliance with the Paperwork Reduction Act (PRA). The ICR describes the nature of the information collection and its expected burden. The collection involves using a questionnaire to collect medical information from candidates for the job of Transportation Security Officer (TSO) to ensure applicants are qualified to perform TSO duties.

DATES: Send your comments by March 31, 2023.

ADDRESSES: Comments may be emailed to TSAPRA@tsa.dhs.gov or delivered to the TSA PRA Officer, Information Technology (IT), TSA-11, Transportation Security Administration, 6595 Springfield Center Drive, Springfield, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at https://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Number 1652-0032; Security Officer Medical Questionnaire. TSA collects relevant medical information from TSO candidates who have successfully completed certain prior steps in the hiring process. This information is used to assess whether the TSO candidates meet the medical qualification standards the agency has established pursuant to 49 U.S.C. 44935. TSA currently collects this information using a medical questionnaire completed by TSO candidates. The medical questionnaire is used in concert with information collected during a physical medical exam to evaluate a candidate's physical and medical qualifications to be a TSO, including visual and aural acuity, and physical coordination and motor skills.

Historical data indicates that on average 22,500 candidates for TSO positions annually complete medical exams. The medical questionnaire takes approximately 45 minutes (0.75 hours) for the candidates to complete, resulting in an estimated burden of 16,875 hours. Also, TSA estimates the average round-trip travel time to a TSA-contracted physician's office to be 54 minutes (0.9 hours), for an estimated hour burden of 20,250 hours (22,500 × 54 minutes). The estimated total burden time for the completion of the medical questionnaire is 37,125 (16,875 + 20,250) annual hours.

Dated: January 25, 2023.
Christina A. Walsh,
TSA Paperwork Reduction Act Officer, Information Technology.

[FR Doc. 2023-01798 Filed 1-27-23; 8:45 am]

BILLING CODE 9110-05-P